TENNESSEE VALLEY AUTHORITY

Sunshine Act Meetings

TIME AND DATE: 8:30 a.m. on February 11, 2021.

PLACE: Please use the following link for the live stream of meeting: https://tva.com/board/watch.

STATUS: Open, via live streaming only.

MATTERS TO BE CONSIDERED:

Meeting No. 21-01

The TVA Board of Directors will hold a public meeting on February 11, 2021. Due to the ongoing risks associated with the COVID-19 outbreak, the meeting will be conducted via teleconference. The meeting will be called to order at 8:30 a.m. ET to consider the agenda items listed below. TVA Board Chair John Ryder and TVA management will answer questions from the news media following the Board meeting.

Public health concerns also require a change to the Board's public listening session. Although in-person comments from the public are not feasible, the Board is encouraging those wishing to express their opinions to submit written comments that will be provided to the Board members before the February 11 meeting. Written comments can be submitted through the same online system used to register to speak at previous listening sessions.

Agenda

1. Approval of minutes of the November 13, 2020, Board Meeting

2. Report of the External Relations Committee

A. Acknowledgment of Local Power Companies

B. Federal Advisory Committee Act Designated Federal Officer and Committee Management Officer

3. Report of the People and Performance Committee

A. Strategic Assessment Review

B. Fiscal Year 2021 CEO Compensation

C. Board Chair

4. Report of the Finance, Rates, and Portfolio Committee

A. Real Time Energy Rate Product

5. Report of the Nuclear Oversight Committee

6. Report of the Audit, Risk, and Regulation Committee

7. Information Item

A. Committee Assignments

8. Report from President and CEO

Contact Person for More Information: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: February 4, 2021.
Sherry A. Quirk,
General Counsel.

[FR Doc. 2021-02770 Filed 2-5-21; 4:15 pm]

BILLING CODE 8120-08-P